DEPARTMENT OF COMMERCE

National Oceanic and Atmospheric Administration

RIN 0648-XA254

Taking and Importing Marine Mammals; Taking Marine Mammals Incidental to Construction and Operation of a Liquefied Natural Gas Deepwater Port in the Gulf of Mexico

AGENCY: National Marine Fisheries Service (NMFS), National Oceanic and Atmospheric Administration (NOAA), Commerce.

ACTION: Notice; receipt of application for letter of authorization; request for comments and information.

SUMMARY: NMFS has received a request from Port Dolphin Energy LLC (Port Dolphin) for authorization for the take, by Level B harassment, of marine mammals incidental to construction and operation of the Port Dolphin Deepwater Port (Port) off the Gulf coast of Florida for the period June 2012-June 2017. Pursuant to the Marine Mammal Protection Act (MMPA), NMFS is announcing receipt of Port Dolphin's request for the development and implementation of 5-year regulations governing the incidental taking of marine mammals and inviting information, suggestions, and comments on Port Dolphin's application and request.

DATES: Comments and information must be received no later than March 31, 2011.

ADDRESSES: Comments on the application should be addressed to Michael Payne, Chief, Permits, Conservation and Education Division, Office of Protected Resources, National Marine Fisheries Service, 1315 East-West Highway, Silver Spring, MD 20910. The mailbox address for providing e-mail comments is ITP.Nachman@noaa.gov. NMFS is not responsible for e-mail comments sent to addresses other than the one provided here. Comments sent via e-mail, including all attachments, must not exceed a 10-megabyte file size.

Instructions: All comments received are a part of the public record and will generally be posted to http://www.nmfs.noaa.gov/pr/permits/incidental.htm without change. All Personal Identifying Information (for example, name, address, etc.) voluntarily submitted by the commenter may be publicly accessible. Do not submit Confidential Business Information or otherwise sensitive or protected information.

FOR FURTHER INFORMATION CONTACT: Candace Nachman, Office of Protected Resources, NMFS, (301) 713-2289, ext. 156.

SUPPLEMENTARY INFORMATION:

Availability

A copy of Port Dolphin's application may be obtained by writing to the address specified above (ADDRESSES), calling the contact listed above (FOR FURTHER INFORMATION CONTACT), or visiting the Internet at: http://www.nmfs.noaa.gov/pr/permits/incidental.htm. The U.S. Coast Guard's and U.S. Maritime Administration's Final Environmental Impact Statement was made available to the public on July 9, 2009.

Background

Sections 101(a)(5)(A) and (D) of the MMPA (16 U.S.C. 1361 et seq.) direct the Secretary of Commerce to allow, upon request, the incidental, but not intentional, taking of small numbers of marine mammals by U.S. citizens who engage in a specified activity (other than commercial fishing) within a specified geographical region if certain findings are made and either regulations are issued or, if the taking is limited to harassment, a notice of a proposed authorization is provided to the public for review.

Authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth. NMFS has defined “negligible impact” in 50 CFR 216.103 as “. . . an impact resulting from the specified activity that cannot be reasonably expected to, and is not reasonably likely to, adversely affect the species or stock through effects on annual rates of recruitment or survival.”

Except with respect to certain activities not pertinent here, the MMPA defines “harassment” as:

any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].

Summary of Request

On February 1, 2011, NMFS received a complete application from Port Dolphin requesting authorization for the take of two marine mammal species incidental to construction and operation of a liquefied natural gas (LNG) deepwater port off the Gulf coast of Florida over the course of 5 years, which would necessitate the promulgation of 5-year regulations. Port Dolphin plans to build the LNG Port off the western coast of Florida, approximately 42 mi (68 km) from Port Manatee, Florida. Once built, Port Dolphin anticipates up to 46 shuttle regasification vessel (SRV) unloadings per year during the first several years of operation. Noise produced during Port installation and construction activities and Port operations have the potential to take marine mammals. Port Dolphin requests authorization to take two cetacean species by Level B harassment only: Atlantic spotted dolphin and bottlenose dolphin. Injury or mortality is unlikely during the proposed activities, and take by Level A harassment (including injury) or mortality is not requested in Port Dolphin's application.

Specified Activities

In the application submitted to NMFS, Port Dolphin requests authorization to take marine mammals incidental to construction and operation of the LNG Port off the Gulf coast of Florida. Construction activities, which would take approximately 11 months to complete, include: buoy installation; offshore hammering; horizontal directional drilling (HDD); HDD vibratory; pipeline laying offshore; pipeline laying inshore; offshore plowing; and inshore plowing. Operational activities include: SRV maneuvering and docking and regasification. Sections 1 and 2 of Port Dolphin's application describe the full suite of activities, as well as the location and duration of activity.

Information Solicited

Interested persons may submit information, suggestions, and comments concerning Port Dolphin's request (see ADDRESSES). All information, suggestions, and comments related to Port Dolphin's request and NMFS' potential development and implementation of regulations governing the incidental taking of marine mammals by Port Dolphin's activities will be considered by NMFS in developing, if appropriate, the most effective regulations governing the issuance of letters of authorization.

Dated: February 23, 2011.
James H. Lecky,
Director, Office of Protected Resources, National Marine Fisheries Service.

[FR Doc. 2011-4539 Filed 2-28-11; 8:45 am]

BILLING CODE 3510-22-P